DEPARTMENT OF COMMERCE

National Oceanic and Atmospheric Administration

RIN 0648-XU87

[File No. 15126]

Marine Mammals

AGENCY: National Marine Fisheries Service (NMFS), National Oceanic and Atmospheric Administration (NOAA), Commerce.

ACTION: Notice; receipt of application for permit amendment.

SUMMARY: Notice is hereby given that NMFS National Marine Mammal Laboratory, (Responsible Party: Dr. John Bengtson, Director), Seattle, WA, has applied for an amendment to Scientific Research Permit No. 15126-01 for studies of marine mammals in Alaska.

DATES: Written, telefaxed, or email comments must be received on or before December 27, 2011.

ADDRESSES: The application and related documents are available for review by selecting “Records Open for Public Comment” from the Features box on the Applications and Permits for Protected Species home page, https://apps.nmfs.noaa.gov, and then selecting File No. 15126 from the list of available applications.

These documents are also available upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Amy Sloan, (301) 427-8401.

SUPPLEMENTARY INFORMATION: The subject amendment to Permit No. 15126-01 is requested under the authority of the Marine Mammal Protection Act of 1972, as amended (16 U.S.C. 1361 et seq.), and the regulations governing the taking and importing of marine mammals (50 CFR part 216).

Permit No. 15126, issued on May 7, 2010 (75 FR 27300), authorizes the permit holder to take ribbon seals (Phoca fasciata), spotted seals (P. largha), ringed seals (P. hispida), harbor seals (P. vitulina), and bearded seals (Erignathus barbatus) in the North Pacific Ocean, Bering Sea, Arctic Ocean and coastal regions of Alaska to investigate their foraging ecology, habitat requirements, vital rates, and effects of natural and anthropogenic factors. A minor amendment (Permit No. 15126-01) was issued on April 5, 2011, which authorized harassment of ringed seals to assess conditions and characteristics of their lairs and breathing holes. Methods for the project include excavating a portion of the lairs or breathing holes to take measurements and photographs of the structure and placing sensors within the lair before reconstructing and closing the structure. The minor amendment did not change the numbers of animals harassed; it re-allocated takes already permitted for harassment incidental to seal capture activities. The permit is valid through March 30, 2015.

The permit holder is requesting the permit be amended to include authorization for harassment of an additional 3,554 ribbon seals, 8,699 spotted seals, 3,872 bearded seals and 50,653 ringed seals annually during low-level (less than 1,000 feet and greater than 400 feet) aerial surveys conducted from either rotary or fixed wing manned or unmanned aircraft. The amendment would not affect the expiration date of the permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: November 18, 2011.
P. Michael Payne,
Chief, Permits and Conservation Division, Office of Protected Resources, National Marine Fisheries Service.

[FR Doc. 2011-30390 Filed 11-23-11; 8:45 am]

BILLING CODE 3510-22-P